DEPARTMENT OF AGRICULTURE

Natural Resources Conservation Service

Rehabilitation of Floodwater Retarding Structure Nos. 7 and 13A of the Upper Brushy Creek Watershed, Williamson County, TX

AGENCY: Natural Resources Conservation Service, USDA.

ACTION: Notice of a Finding of No Significant Impact.

SUMMARY: Pursuant to section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the rehabilitation of Floodwater Retarding Structure (FRS) Nos. 7 and 13A of the Upper Brushy Creek Watershed, Williamson County, Texas.

FOR FURTHER INFORMATION CONTACT: Dr. Larry D. Butler, State Conservationist, Natural Resources Conservation Service, 101 South Main, Temple, Texas 76501-7682, telephone (254) 742-9800.

SUPPLEMENTARY INFORMATION: The environmental assessment of this federally assisted action indicates that the project will not cause significant local, regional, or national impacts on the environment. As a result of these findings, Dr. Larry D. Butler, State Conservationist, has determined that the preparation and review of an environmental impact statement is not needed for this project.

The project will rehabilitate Floodwater Retarding Structure Nos. 7 and 13A to maintain the present level of flood control benefits and comply with the current performance and safety standards.

Rehabilitation of the FRS will require the disturbance of 1.7 acres. FRS No. 7 will be rehabilitated by adding a 60-inch hooded inlet principal spillway and raising the dam height by 8 feet with a reinforced concrete parapet wall. The length of the dam will be extended 200 feet on the left abutment and 350 feet on the right abutment. FRS No. 13A will be rehabilitated by adding a 30-inch hooded inlet spillway and by raising the top of dam by 4 feet with a reinforced concrete parapet wall. The disturbed areas will be reestablished with bermudagrass. The proposed work will not affect any prime farmland, endangered or threatened species, wetlands, or cultural resources.

Federal assistance will be provided under authority of the Small Watershed Rehabilitation Amendments of 2000 (section 313, Public Law 106-472). Total project costs is estimated to be $4,201,400 of which $2,956,100 will be paid from the Small Watershed Rehabilitation funds and $1,245,300 from local funds.

The Notice of a Finding of No Significant Impact (FONSI) has been forwarded to the Environmental Protection Agency and to various Federal, State, and local agencies and interested parties. A limited number of copies of the FONSI are available to fill single copy requests at the above address. Basic data developed during the environmental assessment are on file and may be reviewed by contacting Dr. Larry D. Butler, State Conservationist, telephone (254) 742-9800.

No administrative action on implementation of the proposal will be taken until 30 days after the date of this publication in the Federal Register.

Dated: June 23, 2004.
Larry D. Butler,
State Conservationist.

[FR Doc. 04-14847 Filed 6-29-04; 8:45 am]

BILLING CODE 3410-16-P